OFFICE OF THE UNITED STATES TRADE REPRESENTATIVE

Generalized System of Preferences (GSP): Notice Regarding the Initiation of Child Labor Review in the Production of Certain GSP-Eligible Hand-Loomed or Hand-Hooked Carpets

AGENCY: Office of the United States Trade Representative.

ACTION: Notice.

SUMMARY: The 2004 Miscellaneous Trade and Technical Corrections Act (H.R. 1047) (the “2004 Act”), as approved by Congress, authorized the President to designate seven tariff lines relating to carpets (5702.51.20 (now 5702.50.20), 5702.91.30, 5702.92.00 (now 5702.92.10), 5702.99.10 (now 5702.99.05), 5703.10.00 (now 5703.10.20), 5703.20.10, and 5703.30.00 (now 5703.30.20)) as eligible for duty-free treatment under the GSP program. These tariff lines cover certain hand-loomed or hand-hooked carpets and other textile floor coverings made of wool, cotton, fine animal hair, or man-made textile materials. Pursuant to the authorization in the 2004 Act, the President designated these seven tariff lines as eligible for duty-free treatment under the GSP program. The GSP Subcommittee of the Trade Policy Staff Committee (TPSC) is conducting a triennial review of whether each beneficiary country is taking steps to eliminate the worst forms of child labor, including the use of bonded child labor, in the production of such carpets imported under the U.S. GSP program. If sufficient steps are not underway, the TPSC will recommend to the President changes in GSP coverage that would eliminate from duty-free treatment under the GSP program those carpets found to be made with the worst forms of child labor.

FOR FURTHER INFORMATION CONTACT: The GSP Subcommittee of the TPSC, Office of the United States Trade Representative (USTR), 1724 F Street, NW., Room F-220, Washington, DC 20508. The telephone number is (202) 395-6971.

SUPPLEMENTARY INFORMATION: In connection with the President's designation of seven carpet tariff lines as GSP eligible articles, the GSP Subcommittee of the TPSC is reviewing whether each beneficiary country that supplies the identified hand-loomed or hand-hooked carpets under the GSP program is taking sufficient steps to eliminate the worst forms of child labor, including the use of bonded child labor, in the production of these items. The top suppliers of these carpet tariff lines under the GSP program to the United States in 2006 (the most recent year for which full-year data are available) were: India, Thailand, Philippines, Indonesia, Pakastan, Egypt, Turkey, South Africa, and Nepal.

Upon a finding during the review that a country is not taking steps to eliminate the worst forms of child labor, including the use of bonded child labor, in production of certain hand-loomed or hand-hooked carpets imported under the U.S. GSP Program, the TPSC will recommend changes in the GSP coverage that would eliminate those carpets from duty-free treatment under the GSP program. The review will be repeated at three-year intervals.

For purposes of this review, the term “worst forms of child labor” means (19 U.S.C. 2467(6)) (A) All forms of slavery or practices similar to slavery, such as the sale or trafficking of children, debt bondage and serfdom, or forced or compulsory labor, including forced or compulsory recruitment of children for use in armed conflict;

(B) The use, procuring, or offering of a child for prostitution, for the production of pornography or for pornographic purposes;

(C) The use, procuring, or offering of a child for illicit activities in particular for the production and trafficking of drugs; and

(D) Work which, by its nature or the circumstances in which it is carried out, is likely to harm the health, safety, or morals of children.

The work referred to in subparagraph (D) shall be determined by the laws, regulations, or competent authority of the beneficiary developing country involved.

Opportunities for Public Comment and Inspection of Comments: The GSP Subcommittee of the TPSC invites comments for this review. Submissions should comply with 15 CFR Part 2007, except as modified below. All submissions should identify the subject article(s) in terms of the country and the eight-digit Harmonized Tariff Schedule of the United States subheading number. The deadline for submission is February 15, 2008.

Requirements for Submissions: In order to facilitate prompt processing of submissions, USTR requires electronic e-mail submissions in response to this notice. Hand-delivered submissions will not be accepted. These submissions should be single-copy transmissions in English, and including attachments, with the total submission not to exceed 25 single-spaced standard letter-size pages in 12-point type and three megabytes as sent as a digital file attached to an e-mail transmission. E-mail submissions should use the following subject line: “Child Labor Review in the Production of Certain GSP-Eligible Hand-loomed or Hand-hooked Carpet Lines” followed by the country and the eight-digit HTSUS subheading number. Documents must be submitted in English in one of the following formats: WordPerfect (.WPD), Adobe (.PDF), MSWord (.DOC), or text (.TXT) files. Documents cannot be submitted as electronic image files or contain embedded images, e.g., “.JPG”, “.TIF”, “.BMP”, or “.GIF”. Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's name, organization name, address, telephone number and e-mail address. The e-mail address for these submissions is FR0081@USTR.EOP.GOV. (Note: The letters “FR” in the e-mail address are followed by the number, zero, not a letter. Documents not submitted in accordance with these instructions might not be considered in this review. If unable to provide submissions by e-mail, please contact the GSP Subcommittee to arrange for an alternative method of transmission.)

Public versions of all documents relating to this review will be available for review approximately two weeks after the relevant due date by appointment in the USTR public reading room, 1724 F Street, NW., Washington, DC. Appointments may be made from 9:30 a.m. to noon and 1 p.m. to 4 p.m., Monday through Friday, by calling (202) 395-6186.

Marideth Sandler
Executive Director, Generalized System of Preferences, Office of the U.S. Trade Representative.

[FR Doc. E8-905 Filed 1-17-08; 8:45 am]

BILLING CODE 3190-W8-P